NUCLEAR REGULATORY COMMISSION

[NRC-2019-0140]

Biweekly Notice; Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from June 4, 2019, to June 17, 2019. The last biweekly notice was published on June 18, 2019.

DATES: Comments must be filed by August 1, 2019. A request for a hearing must be filed by September 3, 2019.

ADDRESSES: You may submit comments by any of the following methods:

• Federal Rulemaking website: Go to https://www.regulations.gov and search for Docket ID NRC-2019-0140. Address questions about NRC dockets IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, D.C. 20555-0001; telephone: 301-415-5411, email: Shirley.Rohrer@nrc.gov.

SUPPLEMENTARY INFORMATION:

I. Obtaining Information and Submitting Comments

A. Obtaining Information

Please refer to Docket ID NRC-2019-0140, facility name, unit number(s), plant docket number, application date, and subject when contacting the NRC about the availability of information for this action. You may obtain publicly-available information related to this action by any of the following methods:

• Federal Rulemaking website: Go to https://www.regulations.gov and search for Docket ID NRC-2019-0140.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0140, facility name, unit number(s), plant docket number, application date, and subject in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Duke Energy Progress, LLC, Docket No. 50-400, Shearon Harris Nuclear Power Plant, Unit 1, Wake and Chatham Counties, North Carolina

Date of amendment request: February 18, 2019. A publicly-available version is in ADAMS under Accession No. ML19049A027.

Description of amendment request: The amendment would revise the Technical Specifications (TSs) to permit one train of the Essential Services Chilled Water System (ESCWS) to be inoperable for up to 7 days, from the current 72 hours allowed outage time. In addition, the amendment would remove an expired note previously added to TSs by implementation of License Amendment 153.

Basis for proposed no significant hazards consideration determination: As required by 10 CFR 50.91(a), the licensee has provided its analysis of the issue of no significant hazards consideration, which is presented below:

1. Does the proposed amendment involve a significant increase in the probability or consequences of an accident previously evaluated?

[Response: No.]

The operable train of the ESCWS and supported equipment will remain fully operable during the 7-day allowed outage time. The unavailable train of the ESCWS and supported equipment function as accident mitigators. The removal of a train of the ESCWS from service for a limited period of time does not affect any accident initiator and therefore cannot change the probability of an accident. The proposed change has been evaluated to assess the impact on systems affected and the upon design basis safety functions.

The activities covered by this LAR [license amendment request] also include defense-in-depth compensatory measures. There will be no effect on the analysis of any accident or the progression of the accident since the operable ESCWS train is capable of serving 100 percent of all the required heat loads. As such, there is no impact on consequence mitigation for any transient or accident.

The proposed changes to TS 3.1.2.4, TS 3.5.2, TS 3.6.2.1, TS 3.6.2.2, TS 3.6.2.3, TS 3.7.1.2, TS 3.7.3, TS 3.7.4, TS 3.7.6, TS 3.7.7, TS 3.7.13, and TS 3.8.1.1 that remove an expired note are administrative, non-technical changes which remove temporary TS requirements added as part of the HNP License Amendment 153 issued on September 16, 2016 (Agencywide Documents Access and Management System Accession No. ML16253A059), that are currently obsolete.

As a result, operation of the facility in accordance with the proposed changes will not significantly increase the consequences of accidents previously evaluated.

2. Does the proposed amendment create the possibility of a new or different kind of accident from any accident previously evaluated?

[Response: No.]

The proposed amendment is an extension of the allowed outage time from 72 hours to 7 days for the ESCWS and its supported TS systems that includes Charging Pumps, ECCS [emergency core cooling system] subsystems, Containment Spray System, Containment Cooling System, and the Emergency Service Water System, `B' Train. The requested change does not involve the addition or removal of any plant system, structure, or component.

The proposed TS changes do not affect the basic design, operation, or function of any of the systems associated with the TS impacted by the amendment. Implementation of the proposed amendment will not create the possibility of a new or different kind of accident from that previously evaluated.

The proposed changes to TS 3.1.2.4, TS 3.5.2, TS 3.6.2.1, TS 3.6.2.2, TS 3.6.2.3, TS 3.7.1.2, TS 3.7.3, TS 3.7.4, TS 3.7.6, TS 3.7.7, TS 3.7.13, and TS 3.8.1.1 that remove an expired note are administrative, non-technical changes which remove temporary TS requirements added as part of the HNP License Amendment 153 issued on September 16, 2016, that are currently obsolete.

In conclusion, this proposed LAR does not impact any plant systems that are accident initiators and does not impact any safety analysis. Therefore, operation of the facility in accordance with the proposed changes will not create the possibility of a new or different kind of accident from any previously evaluated.

3. Does the proposed amendment involve a significant reduction in a margin of safety?

[Response: No.]

The margin of safety is related to the confidence in the ability of the fission product barriers to perform their design functions during and following an accident condition. These barriers include the fuel cladding, the reactor coolant system, and the containment system. The performance of the fuel cladding, reactor coolant, and containment systems will not be impacted by the proposed LAR.

Additionally, the proposed amendment does not involve a change in the operation of the plant. The activity only extends the amount of time a train of the ESCWS is allowed to be inoperable to complete maintenance for equipment reliability. The incremental conditional core damage probability (ICCDP) and incremental conditional large early release probability (ICLERP) calculated for the 7-day AOT are within the limits presented in Regulatory Guides 1.174 and 1.177.

The proposed changes to TS 3.1.2.4, TS 3.5.2, TS 3.6.2.1, TS 3.6.2.2, TS 3.6.2.3, TS 3.7.1.2, TS 3.7.3, TS 3.7.4, TS 3.7.6, TS 3.7.7, TS 3.7.13, and TS 3.8.1.1 that remove an expired note are administrative, non-technical changes which remove temporary TS requirements added as part of the HNP License Amendment 153 issued on September 16, 2016, that are currently obsolete.

Therefore, operation of the facility in accordance with the proposed changes will not involve a significant reduction in the margin of safety.

The NRC staff has reviewed the licensee's analysis and, based on this review, it appears that the three standards of 10 CFR 50.92(c) are satisfied. Therefore, the NRC staff proposes to determine that the amendment request involves no significant hazards consideration.

Attorney for licensee: David Cummings, Associate General Counsel, Duke Energy Corporation, Mail Code DEC45, 550 South Tryon St., Charlotte, NC 28202.

NRC Branch Chief: Undine Shoop.

Entergy Nuclear Operations, Inc., Docket No. 50-255, Palisades Nuclear Plant (PNP), Van Buren County, Michigan

Date of amendment request: March 28, 2019, as supplemented by letter dated May 6, 2019. Publicly-available versions are in ADAMS under Accession Nos. ML19098A966, and ML19127A018, respectively.

Description of amendment request: The amendment would revise and modify the PNP technical specifications (TSs) by relocating specific surveillance frequencies to a licensee-controlled program with the implementation of Technical Specifications Task Force (TSTF) Traveler TSTF-425, “Relocate Surveillance Frequencies to Licensee Control—RITSTF [Risk-Informed TSTF] Initiative 5b,” Revision 3.

Basis for proposed no significant hazards consideration determination: As required by 10 CFR 50.91(a), the licensee has provided its analysis of the issue of no significant hazards consideration, which is presented below:

As required by 10 CFR 50.91(a), the licensee has provided its analysis of the issue of no significant hazards consideration. The NRC staff has reviewed the licensee's analysis against the standards of 10 CFR 50.92(c). The NRC staff's analysis is presented below:

1. Does the proposed change involve a significant increase in the probability or consequences of any accident previously evaluated?

Response: No.

The proposed change relocates the specified frequencies for periodic surveillance requirements to licensee control under a new Surveillance Frequency Control Program [SFCP]. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of an accident previously evaluated.

2. Does the proposed change create the possibility of a new or different kind of accident from any previously evaluated?

Response: No.

No new or different accidents result from utilizing the proposed change. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Therefore, the proposed changes do not create the possibility of a new or different kind of accident from any accident previously evaluated.

3. Does the proposed change involve a significant reduction in the margin of safety?

Response: No.

The design, operation, testing methods, and acceptance criteria for systems, structures, and components (SSCs), specified in applicable codes and standards (or alternatives approved for use by the NRC) will continue to be met as described in the plant licensing basis (including the Final Safety Analysis Report and Bases to TS), since these are not affected by changes to the surveillance frequencies. Similarly, there is no impact to safety analysis acceptance criteria as described in the plant licensing basis. To evaluate a change in the relocated surveillance frequency, Entergy will perform a probabilistic risk evaluation using the guidance contained in NRC approved [Nuclear Energy Institute] NEI 04-10, Revision 1 in accordance with the TS SFCP. NEI 04-10, Revision 1, methodology provides reasonable acceptance guidelines and methods for evaluating the risk increase of proposed changes to surveillance frequencies consistent with Regulatory Guide 1.177.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Anna V. Jones, Senior Counsel, Entergy Services, Inc., 101 Constitution Avenue NW, Suite 200 East, Washington, DC 20001.

NRC Acting Branch Chief: Lisa M. Regner.

Entergy Operations, Inc. (Entergy), Docket Nos. 50-313 and 50-368, Arkansas Nuclear One, Units 1 (ANO-1) and 2 (ANO-2), Pope County, Arkansas

Date of amendment request: April 29, 2019. A publicly-available version is in ADAMS under Accession No. ML19119A090.

Description of amendment request: The amendments would revise the license basis documents for ANO-1 and ANO-2, to utilize the Tornado Missile Risk Evaluator (TMRE) methodology as the licensing basis to qualify several components that have been identified as not conforming to the unit-specific current licensing basis.

Basis for proposed no significant hazards consideration determination: As required by 10 CFR 50.91(a), the licensee has provided its analysis of the issue of no significant hazards consideration, which is presented below:

1. Does the proposed change involve a significant increase in the probability or consequences of an accident previously evaluated?

Response: No.

The proposed amendment is to revise the ANO-1 and ANO-2 unit-specific SARs [Safety Analysis Reports] by reflecting the results of the TMRE analysis, which demonstrated that tornado-generated missile protection is not required for identified nonconforming structures, systems, and components (SSCs) on each unit. TMRE is an alternative methodology which can only be applied to discovered conditions where tornado missile protection was not provided, and cannot be used to avoid providing tornado missile protection in the plant modification process.

The proposed amendment does not involve an increase in the probability of an accident previously evaluated. The relevant accident previously evaluated is a Design Basis tornado impacting the ANO site. The probability of a Design Basis tornado is driven by external factors and is not affected by the proposed amendment. There are no changes required to any of the previously evaluated accidents in the SAR.

The proposed amendment does not involve a significant increase in the consequences of a Design Basis tornado. TMRE is a risk-informed methodology for determining whether certain safety-related features that are currently not protected from tornado-generated missiles require such protection. The criteria for significant increase in consequences was established in the NRC Policy Statement on probabilistic risk assessment, which were incorporated into Regulatory Guide (RG) 1.174, “An Approach for Using Probabilistic Risk Assessment in Risk-Informed Decisions on Plant-specific Changes to the Licensing Basis.” The TMRE calculations performed by Entergy meet the acceptance criteria of RG 1.174.

Therefore, this change does not involve a significant increase in the probability or consequences of an accident previously evaluated.

2. Does the proposed change create the possibility of a new or different kind of accident from any accident previously evaluated?

Response: No.

The proposed amendment is to revise the ANO-1 and ANO-2 unit-specific SARs by reflecting the results of the TMRE analysis, which demonstrated that tornado-generated missile protection is not required for identified nonconforming SSCs on each unit. TMRE is an alternative methodology which can only be applied to discovered conditions where tornado missile protection was not provided, and cannot be used to avoid providing tornado missile protection in the plant modification process.

The proposed amendment involves no physical changes to the existing plants; therefore, no new malfunctions could create the possibility of a new or different kind of accident. The proposed amendment makes no changes to conditions external to the plants that could create the possibility of a new or different kind of accident. The proposed change does not create the possibility of a new or different kind of accident due to new accident precursors, failure mechanisms, malfunctions, or accident initiators not considered in the design and licensing bases. The existing unit-specific SAR accident analyses will continue to meet requirements for the scope and type of accidents that require analysis.

Therefore, this change does not create the possibility of a new or different kind of accident from an accident previously evaluated.

3. Does the proposed change involve a significant reduction in a margin of safety?

Response: No.

The proposed amendment is to revise the ANO-1 and ANO-2 unit-specific SARs by reflecting the results of the TMRE analysis, which demonstrated that tornado-generated missile protection is not required for identified nonconforming SSCs on each unit. TMRE is an alternative methodology which can only be applied to discovered conditions where tornado missile protection was not provided, and cannot be used to avoid providing tornado missile protection in the plant modification process.

The change does not exceed or alter any controlling numerical value for a parameter established in the ANO-1 or ANO-2 SAR or elsewhere in the ANO unit-specific licensing basis related to design basis or safety limits. The change does not impact any unit specific accident analyses, and those analyses remain valid. The change does not reduce diversity or redundancy as required by regulation or credited in the unit-specific SAR. The change does not reduce defense-in-depth as described in the unit-specific SAR.

Therefore, this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Anna Vinson Jones, Senior Counsel, Entergy Services, Inc., 101 Constitution Avenue NW, Suite 200 East, Washington, DC 20001.

NRC Branch Chief: Robert J. Pascarelli.

Entergy Operations, Inc., Docket No. 50-368, Arkansas Nuclear One (ANO), Unit 2, Pope County, Arkansas

Date of amendment request: April 30, 2019. A publicly-available version is in ADAMS under Accession No. ML19120A086.

Description of amendment request: The amendment would modify the ANO, Unit 2, Technical Specifications (TSs) by adopting Technical Specifications Task Force (TSTF)-563, “Revise Instrument Testing Definitions to Incorporate the Surveillance Frequency Control Program,” which would revise the definitions of Channel Calibration and Channel Functional Tests in the ANO, Unit 2 TSs.

Basis for proposed no significant hazards consideration determination: As required by 10 CFR 50.91(a), the licensee has provided its analysis of the issue of no significant hazards consideration, which is presented below:

1. Does the proposed amendment involve a significant increase in the probability or consequences of an accident previously evaluated?

Response: No.

The proposed change revises the TS definitions of Channel Calibration and Channel Functional Test to allow the frequency for testing the components or devices in each step to be determined in accordance with the TS SFCP [surveillance frequency control program]. All components in the channel continue to be tested. The frequency at which a channel test is performed is not an initiator of any accident previously evaluated; therefore, the probability of an accident is not affected by the proposed change. The channels surveilled in accordance with the affected definitions continue to be required to be operable and the acceptance criteria of the surveillances are unchanged. As a result, any mitigating functions assumed in the accident analysis will continue to be performed.

Therefore, the proposed change does not involve a significant increase in the probability or consequences of an accident previously evaluated.

2. Does the proposed amendment create the possibility of a new or different kind of accident from any previously evaluated?

Response: No.

The proposed change revises the TS definitions of Channel Calibration and Channel Functional Test to allow the frequency for testing the components or devices in each step to be determined in accordance with the TS SFCP. The design function or operation of the components involved are not affected and there is no physical alteration of the plant (i.e., no new or different type of equipment will be installed). No credible new failure mechanisms, malfunctions, or accident initiators not considered in the design and licensing bases are introduced. The changes do not alter assumptions made in the safety analysis. The proposed changes are consistent with the safety analysis assumptions.

Therefore, the proposed change does not create the possibility of a new or different kind of accident from any previously evaluated.

3. Does the proposed amendment involve a significant reduction in a margin of safety?

Response: No.

The proposed change revises the TS definitions of Channel Calibration and Channel Functional Test to allow the frequency for testing the components or devices in each step to be determined in accordance with the TS SFCP. The SFCP assures sufficient safety margins are maintained, and that the design, operation, surveillance methods, and acceptance criteria specified in applicable codes and standards (or alternatives approved for use by the NRC) will continue to be met as described in the plants' licensing basis. The proposed change does not adversely affect existing plant safety margins, or the reliability of the equipment assumed to operate in the safety analysis. As such, there are no changes being made to safety analysis assumptions, safety limits, or limiting safety system settings that would adversely affect plant safety as a result of the proposed change. Margins of safety are unaffected by method of determining surveillance test intervals under an NRC-approved licensee-controlled program.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Anna Vinson Jones, Senior Counsel, Entergy Services, Inc., 101 Constitution Avenue NW, Suite 200 East, Washington, DC 20001.

NRC Branch Chief: Robert J. Pascarelli.

Exelon Generation Company, LLC, Docket Nos. 50-317 and 50-318, Calvert Cliffs Nuclear Power Plant (CCNPP), Units 1 and 2, Calvert County, Maryland

Date of amendment request: May 6, 2019. A publicly-available version is in ADAMS under Accession No. ML19127A076.

Description of amendment request: The amendments would revise CCNPP, Units 1 and 2, Technical Specification Limiting Condition for Operation 3.4.15, “RCS [Reactor Coolant System] Specific Activity,” and associated surveillance requirements. The proposed changes would replace the current technical specification limit on reactor coolant system gross specific activity with a new limit on reactor coolant system noble gas specific activity. The noble gas specific activity limit would be based on a new definition of “DOSE EQUIVALENT XE-133” that would replace the current definition of “Ē-AVERAGE DISINTEGRATION ENERGY.” Also, the current definition of “DOSE EQUIVALENT I-131” would be revised. The proposed changes are consistent with NRC-approved Technical Specifications Task Force (TSTF) Traveler, TSTF-490, Revision 0, “Deletion of E Bar Definition and Revision to RCS Specific Activity Tech Spec.”

Basis for proposed no significant hazards consideration determination: As required by 10 CFR 50.91(a), the licensee has provided its analysis of the issue of no significant hazards consideration, which is presented below:

1. Does the proposed amendment involve a significant increase in the probability or consequences of an accident previously evaluated?

Response: No.

Reactor coolant specific activity is not an initiator for any accident previously evaluated. The Completion Time when primary coolant gross activity is not within limit is not an initiator for any accident previously evaluated. The current variable limit on primary coolant iodine concentration is not an initiator to any accident previously evaluated. As a result, the proposed change does not significantly increase the probability of an accident. The proposed change will limit primary coolant noble gases to concentrations consistent with the accident analyses. The proposed change to the Completion Time has no impact on the consequences of any design basis accident since the consequences of an accident during the extended Completion Time are the same as the consequences of an accident during the Completion Time. As a result, the consequences of any accident previously evaluated are not significantly increased.

Therefore, the proposed changes do not involve a significant increase in the probability or consequences of an accident previously evaluated.

2. Does the proposed amendment create the possibility of a new or different kind of accident from any accident previously evaluated?

Response: No.

The proposed change in specific activity limits does not alter any physical part of the plant nor does it affect any plant operating parameter. The change does not create the potential for a new or different kind of accident from any previously calculated.

Therefore, the proposed changes do not create the possibility of a new or different kind of accident from any accident previously evaluated.

3. Does the proposed amendment involve a significant reduction in a margin of safety?

Response: No.

The proposed change revises the limits on noble gas radioactivity in the primary coolant. The proposed change is consistent with the assumptions in the safety analyses and will ensure the monitored values protect the initial assumptions in the safety analyses. Based upon the reasoning presented above and the previous discussion of the amendment request, the requested change does not involve a significant hazards consideration.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Florida Power & Light Company, et al., Docket No. 50-389, St. Lucie Plant, Unit No. 2, St. Lucie County, Florida

Date of amendment request: May 20, 2019. A publicly-available version is in ADAMS under Accession No. ML19140A100.

Description of amendment request: The amendment would revise the Technical Specifications (TSs) by relocating the requirements for the Motor Operated Valve (MOV) Thermal Overload Protection Bypass Devices to licensee-controlled documents.

Basis for proposed no significant hazards consideration determination: As required by 10 CFR 50.91(a), the licensee has provided its analysis of the issue of no significant hazards consideration, which is presented below:

1. Does the proposed amendment involve a significant increase in the probability or consequences of an accident previously evaluated?

Response: No.

The proposed change relocates the MOV Thermal Overload Protection Bypass Devices requirements to licensee control whereby future changes are subject to the regulatory controls of 10 CFR 50.59. Relocating the MOV Thermal Overload Protection Bypass Devices requirements neither affects the physical design of any plant structure, system, or component (SSC), nor the manner in which SSCs are operated and controlled. MOV thermal overload protection, and the need to bypass the protection, do not satisfy the four 10 CFR 50.36c(2)(ii) criterion for TS inclusion and are thereby appropriate for relocation, consistent with the NRC Final Policy Statement on TS Improvements. Implementing NRC policies developed to assure compliance with applicable regulations cannot adversely affect the likelihood or outcome of any design basis accident.

Therefore, the proposed license amendments would not involve a significant increase in the probability or consequences of an accident previously evaluated.

2. Does the proposed amendment create the possibility of a new or different kind of accident from any accident previously evaluated?

Response: No.

The proposed change to relocate the MOV Thermal Overload Protection Bypass Devices requirements to licensee control does not install new plant equipment or modify existing plant equipment or modify the manner in which existing plant equipment is operated and controlled. Hence no new failures modes can result from the proposed change. MOV Thermal Overload Protection and the need to bypass the protection during accident conditions are not credited in safety analyses and therefore cannot alter or create new inputs, assumptions or limits associated with accident analyses. MOV thermal overload protection, and the need to bypass the protection, do not satisfy the four 10 CFR 50.36c(2)(ii) criterion for TS inclusion and are thereby appropriate for relocation consistent with the NRC Final Policy Statement on TS Improvements. Implementing NRC policies developed to assure compliance with applicable regulations cannot create new. or different kinds of accidents.

Therefore, the proposed license amendments would not create the possibility of a new or different kind of accident from any previously evaluated.

3. Does the proposed amendment involve a significant reduction in a margin of safety?

Response: No.

The proposed change relocates the MOV Thermal Overload Protection Bypass Devices requirements to licensee control whereby future changes will be subject to the regulatory controls of 10 CFR 50.59. The proposed change does not involve changes to any safety analyses, safety limits or limiting safety system settings. The proposed change does not adversely impact plant operating margins or the reliability of equipment credited in safety analyses. The proposed change implements the NRC Final Policy Statement on TS Improvements for the MOV thermal overload protection bypass devices. Implementing NRC policies developed to assure compliance with applicable regulations cannot result in a reduction in the margin of safety.

Therefore, the proposed license amendment would not involve a significant reduction in the margin of safety.

The NRC staff has reviewed the licensee's analysis and, based on this review, it appears that the three standards of 10 CFR 50.92(c) are satisfied. Therefore, the NRC staff proposes to determine that the amendment request involves no significant hazards consideration.

Attorney for licensee: Debbie Hendell, Managing Attorney—Nuclear, Florida Power & Light Company, 700 Universe Blvd. MS LAW/JB, Juno Beach, Florida 33408-0420.

NRC Branch Chief: Undine Shoop.

NextEra Energy Duane Arnold, LLC, Docket No. 50-331, Duane Arnold Energy Center (DAEC), Linn County, Iowa

Date of amendment request: April 19, 2019. A publicly-available version is in ADAMS under Accession No. ML19109A031.

Description of amendment request: The licensee proposes to change the technical specifications (TSs) for DAEC to permit changes in plant operations when the plant is permanently defueled in the fourth quarter of 2020. Specifically, the licensee proposes to revise the TSs to support the implementation of the certified fuel handler and non-certified operator positions. In addition, certain organization, staffing, and training requirements in the TSs will be revised. The proposed amendment would also make other administrative changes.

Basis for proposed no significant hazards consideration determination: As required by 10 CFR 50.91(a), the licensee has provided its analysis of the issue of no significant hazards consideration, which is presented below:

1. Does the proposed change involve a significant increase in the probability or consequences of an accident previously evaluated?

Response: No.

The proposed changes do not involve any physical changes to plant Structures, Systems, and Components (SSCs) or the manner in which SSCs are operated, maintained, modified, tested, or inspected. The proposed changes do not involve a change to any safety limits, limiting safety system settings, limiting control settings, limiting conditions for operation, surveillance requirements, or design features.

The deletion and modification of provisions of the administrative controls do not directly affect the design of SSCs necessary for safe storage of spent irradiated fuel or the methods used for handling and storage of such fuel in the Spent Fuel Pool (SFP). The proposed changes are administrative in nature and do not affect any accidents applicable to the safe management of spent irradiated fuel or the permanently shutdown and defueled condition of the reactor.

DAEC's accident analyses are contained in Chapter 15 of the Updated Final Safety Analysis Report (UFSAR). In a permanently defueled condition, the only credible UFSAR described accident that remains is the Fuel Handling Accident (FHA). Other Chapter 15 accidents will no longer be applicable to a permanently defueled reactor plant.

The probability of occurrence of previously evaluated accidents is not increased, since extended operation in a permanently defueled condition will be the only operation allowed, and therefore, bounded by the existing analyses. Additionally, the occurrence of postulated accidents associated with reactor operation is no longer credible in a permanently defueled reactor. This significantly reduces the scope of applicable accidents.

Therefore, the proposed changes do not involve an increase in the probability or consequences of a previously evaluated accident.

2. Does the proposed change create the possibility of a new or different kind of accident from any accident previously evaluated?

Response: No.

The proposed changes have no impact on facility SSCs affecting the safe storage of the spent irradiated fuel, or on the methods of operation of such SSCs, or on the handling and storage of spent irradiated fuel itself. The proposed changes do not result in different or more adverse failure modes or accidents than previously evaluated because the reactor will be permanently shut down and defueled and DAEC will no longer be authorized to operate the reactor.

The proposed changes do not affect systems credited in the accident analysis for the FHA at DAEC. The proposed changes will continue to require proper control and monitoring of safety significant parameters and activities.

The proposed changes do not result in any new mechanisms that could initiate damage to the remaining relevant safety barriers in support of maintaining the plant in a permanently shutdown and defueled condition (e.g., fuel cladding and SFP cooling). Since extended operation in a defueled condition will be the only operation allowed, and therefore bounded by the existing analyses, such a condition does not create the possibility of a new of different kind of accident.

The proposed changes do not alter the protection system design, create new failure modes, or change any modes of operation. The proposed changes do not involve a physical alteration of the plant, and no new or different kind of equipment will be installed. Consequently, there are no new initiators that could result in a new or different kind of accident. Therefore, the proposed changes do not create the possibility of a new or different kind of accident from any accident previously evaluated.

3. Does the proposed change involve a significant reduction in a margin of safety?

Response: No.

The proposed changes involve adding TS definitions and deleting and/or modifying certain TS administrative controls once the DAEC facility has been permanently shut down and defueled. As specified in 10 CFR 50.82(a)(2), the 10 CFR 50 license for DAEC will no longer authorize operation of the reactor or emplacement or retention of fuel into the reactor vessel following submittal of the certifications required by 10 CFR 50.82(a)(1). As a result, the occurrence of certain design basis postulated accidents are no longer considered credible when the reactor is permanently defueled.

The only remaining credible UFSAR described accident is a FHA. The proposed changes do not adversely affect the inputs or assumptions of any of the design basis analyses that impact the FHA.

The proposed changes are limited to those portions of the TS definitions and administrative controls that are related to the safe storage and maintenance of spent irradiated fuel. The requirements that are proposed to be revised and/or deleted from the DAEC TS are not credited in the existing accident analysis for the remaining postulated accident (i.e., FHA); therefore, they do not contribute to the margin of safety associated with the accident analysis. Certain postulated DBAs [design-basis accidents] involving the reactor are no longer possible because the reactor will be permanently shut down and defueled and DAEC will no longer be authorized to operate the reactor.

Therefore, the proposed changes have no impact to the margin of safety.

The NRC staff has reviewed the licensee's analysis and, based on this review, it appears that the three standards of 10 CFR 50.92(c) are satisfied. Therefore, the NRC staff proposes to determine that the amendment request involves no significant hazards consideration.

Attorney for licensee: Steven Hamrick, Managing Attorney—Nuclear, Florida Power Light Company, P.O. Box 14000, Juno Beach, FL 33408-0420.

NRC Acting Branch Chief: Lisa M. Regner.

Southern Nuclear Operating Company, Docket Nos. 52-025 and 52-026, Vogtle Electric Generating Plant (VEGP), Units 3 and 4, Burke County, Georgia

Date of amendment request: May 10, 2019. A publicly-available version is in ADAMS under Accession No. ML19134A059.

Description of amendment request: The amendment request proposes changes to the Combined License (COL) Numbers NPF-91 and NPF-92 for VEGP Units 3 and 4. The requested amendment proposes to delete redundant plant-specific emergency planning Inspections, Tests, Analyses, and Acceptance Criteria (ITAAC) from VEGP Units 3 and 4 COL Appendix C that are bounded by other ITAAC or redundant to document submittal regulatory requirements. The proposed changes do not involve changes to the approved emergency plan, the plant-specific Tier 2 Design Control Document, or the VEGP Unit 3 and 4 emergency preparedness exercise schedule requirements prescribed in 10 CFR part 50, Appendix E, Sections IV.F.2.a.ii, IV.F.2.a.iii, IV.F.2.b and IV.F.2.c for multi-unit sites.

Basis for proposed no significant hazards consideration determination: As required by 10 CFR 50.91(a), the licensee has provided its analysis of the issue of no significant hazards consideration, which is presented below:

1. Does the proposed amendment involve a significant increase in the probability or consequences of an accident previously evaluated?

Response: No.

The VEGP Unit 3 and 4 emergency planning Inspections, Tests, Analyses, and Acceptance Criteria (ITAAC) provide assurance that the facility has been constructed and will be operated in conformity with the license, the provisions of the Act, and the Commission's rules and regulations. The proposed changes do not affect the design of a system, structure, or component (SSC) used to meet the design bases of the nuclear plant. The changes do not affect the construction or operation of the nuclear plant itself, so there is no change to the probability or consequences of an accident previously evaluated. The deletion of redundant VEGP Unit 3 and 4 emergency planning ITAAC does not affect prevention and/or mitigation of abnormal events (e.g., accidents, anticipated operational occurrences, earthquakes, floods, or turbine missiles) or the applicable safety and design analyses. No safety-related SSC or function is adversely affected. The changes do not involve or interface with any SSC accident initiator or initiating sequence of events, so the probabilities of the accidents evaluated in the Updated Final Safety Analysis Report (UFSAR) are not affected.

The proposed activity will not allow for a new fission product release path, nor will it result in a new fission product barrier failure mode or create a new sequence of events that would result in fuel cladding failures. The changes do not involve any safety-related SSC or function used to mitigate an accident. Therefore, the consequences of accidents previously evaluated in the UFSAR are not affected.

Therefore, the proposed amendment does not involve a significant increase in the probability or consequences of an accident previously evaluated.

2. Does the proposed amendment create the possibility of a new or different kind of accident from any accident previously evaluated?

Response: No.

The VEGP Unit 3 and 4 emergency planning ITAAC provide assurance that the facility has been constructed and will be operated in conformity with the license, the provisions of the Act, and the Commission's rules and regulations. The deletion of redundant VEGP Unit 3 and 4 emergency planning ITAAC does not affect the design of a system, structure, or component (SSC) used to meet the design bases of the nuclear plant. The changes do not affect the construction or operation of any systems or equipment such that a new or different kind of accident, failure mode, or malfunction is created, or alter any SSC such that a new accident initiator or initiating sequence of events is created.

Therefore, the proposed amendment does not create the possibility of a new or different kind of accident from any accident previously evaluated.

3. Does the proposed amendment involve a significant reduction in a margin of safety?

Response: No.

The VEGP Unit 3 and 4 emergency planning ITAAC provide assurance that the facility has been constructed and will be operated in conformity with the license, the provisions of the Act, and the Commission's rules and regulations. The deletion of redundant VEGP Unit 3 and 4 emergency planning ITAAC does not adversely affect safety-related equipment or fission product barriers. No safety analysis or design basis acceptance limit or criterion is challenged or exceeded by the proposed change.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer L. Dixon-Herrity.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Date of amendment request: April 23, 2019. A publicly-available version is in ADAMS under Accession No. ML19113A282.

Description of amendment request: The amendments would revise the technical specification (TS) safety limit (SL) on minimum critical power ratio (MCPR) to reduce the need for cycle-specific changes to the value, while still meeting the regulatory requirement for an SL, by adoption of Technical Specifications Task Force (TSTF) Traveler TSTF-564, Revision 2, “Safety Limit MCPR,” which is an approved change to the Improved Standard Technical Specifications, into the Edwin I. Hatch Nuclear Plant, Unit Nos. 1 and 2, TSs.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment revises the TS [safety limit MCPR] SLMCPR and the list of core operating limits to be included in the Core Operating Limits Report (COLR). The SLMCPR is not an initiator of any accident previously evaluated. The revised safety limit values continue to ensure for all accidents previously evaluated that the fuel cladding will be protected from failure due to transition boiling. The proposed change does not affect plant operation or any procedural or administrative controls on plant operation that affect the functions of preventing or mitigating any accidents previously evaluated.

Therefore, the proposed change does not involve a significant increase in the probability or consequences of an accident previously evaluated.

2. Does the proposed amendment create the possibility of a new or different kind of accident from any accident previously evaluated?

Response: No.

The proposed amendment revises the TS SLMCPR and the list of core operating limits to be included in the COLR. The proposed change will not affect the design function or operation of any structures, systems or components (SSCs). No new equipment will be installed. As a result, the proposed change will not create any credible new failure mechanisms, malfunctions, or accident initiators not considered in the design and licensing bases.

Therefore, the proposed change does not create the possibility of a new or different kind of accident from any previously evaluated.

3. Does the proposed amendment involve a significant reduction in a margin of safety?

Response: No.

The proposed amendment revises the TS SLMCPR and the list of core operating limits to be included in the COLR. This will result in a change to a safety limit, but will not result in a significant reduction in the margin of safety provided by the safety limit. As discussed in the application, changing the SLMCPR methodology to one based on a 95% probability with 95% confidence that no fuel rods experience transition boiling during an anticipated transient instead of the current limit based on ensuring that 99.9% of the fuel rods are not susceptible to boiling transition does not have a significant effect on plant response to any analyzed accident. The SLMCPR and the TS Limiting Condition for Operation (LCO) on MCPR continue to provide the same level of assurance as the current limits and do not reduce a margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Millicent Ronnlund, Vice President and General Counsel, Southern Nuclear Operating Co., Inc., P.O. Box 1295, Birmingham, AL 35201-1295.

NRC Branch Chief: Michael T. Markley.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-269, 50-270, and 50-287, Oconee Nuclear Station, Units 1, 2, and 3, Oconee County, South Carolina

Date of amendment request: May 17, 2018, as supplemented by letter dated February 26, 2019.

Brief description of amendments: The amendments revise Technical Specification (TS) 3.8.1, “AC [Alternating Current] Sources—Operating,” by adding a surveillance requirement that verifies the ability of the Keowee Hydroelectric Unit auxiliary power system to automatically transfer from its normal auxiliary power source to its alternate auxiliary power source.

Date of issuance: June 14, 2019.

Effective date: As of its date of issuance and shall be implemented within 60 days of issuance.

Amendment Nos.: 411, 413, and 412. A publicly-available version is in ADAMS under Accession No. ML19140A026; documents related to these amendments are listed in the Safety Evaluation enclosed with the amendments.

Facility Operating License Nos. DPR-38, DPR-47 and DPR-55: Amendments revised the Facility Operating Licenses and TSs.

Date of initial notice in Federal Register: August 28, 2018 (83 FR 43904). The supplemental letter dated February 26, 2019, provided additional information that clarified the application, did not expand the scope of the application as originally noticed, and did not change the staff's original proposed no significant hazards consideration determination as published in the Federal Register.

The Commission's related evaluation of the amendment is contained in a Safety Evaluation dated June 14, 2019.

No significant hazards consideration comments received: No.

Entergy Operations, Inc., System Energy Resources, Inc., Cooperative Energy, A Mississippi Electric Cooperative, and Entergy Mississippi, LLC, Docket No. 50-416, Grand Gulf Nuclear Station (Grand Gulf), Unit 1, Claiborne County, Mississippi

Date of amendment request: April 12, 2018, as supplemented by letters dated June 7, 2018, November 30, 2018, and March 6, 2019.

Brief description of amendment: The amendment revised the Grand Gulf Technical Specifications (TSs) by relocating specific surveillance frequencies to a licensee-controlled program with the adoption of Technical Specifications Task Force (TSTF) Traveler TSTF-425, Revision 3, “Relocate Surveillance Frequencies to Licensee Control—RITSTF [Risk-Informed TSTF] Initiative 5b.” Additionally, the amendment added a new program, the Surveillance Frequency Control Program to TS Chapter 5.0, “Administrative Controls.”

Date of issuance: June 11, 2019.

Effective date: As of the date of issuance and shall be implemented within 90 days from the date of issuance.

Amendment No: 219. A publicly-available version is in ADAMS under Accession No. ML19094A799; documents related to this amendment are listed in the Safety Evaluation enclosed with the amendment.

Renewed Facility Operating License No. NPF-29: The amendment revised the Renewed Facility Operating License and Technical Specifications.

Date of initial notice in Federal Register: July 31, 2018 (83 FR 36975). The supplemental letters dated November 30, 2018, and March 6, 2019, provided additional information that clarified the application, did not expand the scope of the application as originally noticed, and did not change the NRC staff's original proposed no significant hazards consideration determination as published in the Federal Register.

The Commission's related evaluation of the amendment is contained in a Safety Evaluation dated June 11, 2019.

No significant hazards consideration comments received: No.

Exelon Generation Company, LLC, Docket No. 50-219, Oyster Creek Nuclear Generating Station (Oyster Creek), Ocean County, New Jersey

Date of amendment request: October 22, 2018, as supplemented by letters dated November 6, 2018, and February 13, 2019.

Brief description of amendment: The amendment revised the effective and implementation dates of Amendment No. 294 for the Oyster Creek Permanently Defueled Emergency Plan (PDEP) and Emergency Action Level (EAL) scheme for the permanently defueled condition.

Date of issuance: June 11, 2019.

Effective date: As of June 29, 2019, and shall be implemented within 30 days of the effective date.

Amendment No.: 296. A publicly available version is in ADAMS under Accession No. ML19098A258; documents related to this amendment are listed in the Safety Evaluation enclosed with the amendment.

Renewed Facility Operating License No. DPR-16: The amendment revised the Renewed Facility Operating License.

Date of initial notice in Federal Register: December 18, 2018 (83 FR 64894). The supplemental letter dated February 13, 2019, provided additional information that clarified the application, did not expand the scope of the application as originally noticed, and did not change the staff's original proposed no significant hazards consideration determination as published in the Federal Register.

The Commission's related evaluation of the amendment is contained in a Safety Evaluation dated June 11, 2019.

No significant hazards consideration comments received: No.

Exelon Generation Company, LLC, Docket No. 50-461, Clinton Power Station (CPS), Unit No. 1, DeWitt County, Illinois

Date of amendment request: September 17, 2018. A publicly-available version is in ADAMS under Accession No. ML18260A307.

Brief description of amendment: The amendment recaptured low-power testing time to extend the full-power operating license (FPOL) to expire on April 17, 2027, instead of the current expiration date of September 29, 2026.

Date of issuance: June 12, 2019.

Effective date: As of the date of issuance and shall be implemented within 30 days from the date of issuance.

Amendment No: 224. A publicly-available version is in ADAMS under Accession No. ML19109A001; documents related to this amendment are listed in the Safety Evaluation enclosed with the amendment.

Facility Operating License No. NPF-62: The amendment revised the Facility Operating License.

Date of initial notice in Federal Register: January 31, 2019 (84 FR 813).

The Commission's related evaluation of the amendment is contained in a Safety Evaluation dated June 12, 2019.

No significant hazards consideration comments received: No.

Northern States Power Company—Minnesota, Docket Nos. 50-282 and 50-306, Prairie Island Nuclear Generating Plant, Units 1 and 2, Goodhue County, Minnesota

Date of amendment request: June 26, 2018.

Brief description of amendment: The amendments revised TS 1.3, “Completion Times” Example 1.3-3, TS 3.6.5, “Containment Spray and Cooling Systems,” TS 3.7.5, “Auxiliary Feedwater (AFW) System,” TS 3.7.8, “Cooling Water (CL) System,” TS 3.8.1, “AC Sources—Operating,” and TS 3.8.9, “Distribution Systems—Operating” by eliminating the second completion time in accordance with Technical Specifications Task Force (TSTF)-439, Revision 2, “Eliminate Second Completion Times Limiting Time from Discovery of Failure to Meet an LCO [limiting condition for operation].”

Date of issuance: June 6, 2019.

Effective date: As of the date of issuance and shall be implemented within 90 days of issuance.

Amendment Nos.: 227-Unit 1; 215-Unit 2. A publicly-available version is in ADAMS under Accession No. ML19128A133; documents related to these amendments are listed in the Safety Evaluation enclosed with the amendments.

Renewed Facility Operating License Nos. DPR-42 and DPR-60: The amendments revised the Renewed Facility Operating Licenses and Technical Specifications.

Date of initial notice in Federal Register: August 14, 2018 (83 FR 40351)

The Commission's related evaluation of the amendment is contained in a Safety Evaluation dated June 6, 2019.

No significant hazards consideration comments received: No.

STP Nuclear Operating Company, Docket Nos. 50-498 and 50-499, South Texas Project, Units 1 and 2, Matagorda County, Texas

Date of amendment request: September 27, 2018.

Brief description of amendment: The amendments revised Surveillance Requirement 4.7.7.b of TS Section ¾.7.7, “Control Room Makeup and Cleanup Filtration System,” to operate for at least 15 continuous minutes at a frequency controlled in accordance with the Surveillance Frequency Control Program by adoption of Technical Specifications Task Force (TSTF) Traveler TSTF-522, Revision 0, “Revise Ventilation System Surveillance Requirements to Operate for 10 Hours per Month.” The NRC approved TSTF-522, Revision 0, as a part of the consolidated line item improvement process on September 20, 2012 (77 FR 58421).

Date of issuance: June 6, 2019.

Effective date: As of the date of issuance and shall be implemented within 90 days of issuance.

Amendment Nos.: Unit 1—215; Unit 2—201. A publicly-available version is in ADAMS under Accession No. ML19067A222; documents related to these amendments are listed in the Safety Evaluation enclosed with the amendments.

Renewed Facility Operating License Nos. NPF-76 and NPF-80: The amendments revised the Renewed Facility Operating Licenses and Technical Specifications.

Date of initial notice in Federal Register: January 2, 2019 (84 FR 25)

The Commission's related evaluation of the amendments is contained in a Safety Evaluation dated June 6, 2019.

No significant hazards consideration comments received: No.

Tennessee Valley Authority, Docket No. 50-391, Watts Bar Nuclear Plant, Unit 2, Rhea County, Tennessee

Date of amendment request: May 14, 2018, as supplemented by letter dated November 8, 2018.

Brief description of amendment: The amendment revised the Technical Specifications to implement a voltage-based alternate repair criteria (ARC) for degraded steam generator (SG) tubes in the Unit 2 Westinghouse Model D3 SGs. The ARC follow the guidelines set forth in NRC Generic Letter 95-05, “Voltage-Based Criteria for Westinghouse Steam Generator Tubes Affected by Outside Diameter Stress Corrosion Cracking.”

Date of issuance: June 3, 2019.

Effective date: As of the date of issuance and shall be implemented within 60 days of issuance.

Amendment No.: 28. A publicly-available version is in ADAMS under Accession No. ML19063B721; documents related to this amendment are listed in the Safety Evaluation enclosed with the amendment.

Facility Operating License No. NPF-96: Amendment revised the Facility Operating License and Technical Specifications.

Date of initial notice in Federal Register: November 20, 2018 (83 FR 58618). The supplemental letter dated November 8, 2018, provided additional information that clarified the application, did not expand the scope of the application as originally noticed, and did not change the NRC staff's original proposed no significant hazards consideration determination as published in the Federal Register.

The Commission's related evaluation of the amendment is contained in a Safety Evaluation dated June 23, 2019.

No significant hazards consideration comments received: No.

Tennessee Valley Authority, Docket Nos. 50-390 and 50-391, Watts Bar Nuclear Plant, Units 1 and 2, Rhea County, Tennessee

Date of amendment request: February 28, 2018, as supplemented by letters dated November 9, 2018, and March 21, 2019.

Brief description of amendment: The amendments revised Technical Specification 3.8.9 to add a new Condition C with an 8-hour completion time for performing maintenance on the opposite unit's vital bus when the opposite unit is in Mode 5, Mode 6, or defueled.

Date of issuance: June 7, 2019.

Effective date: As of the date of issuance and shall be implemented within 60 days of issuance.

Amendment Nos.: 126 and 29. A publicly-available version is in ADAMS under Accession No. ML19098A774; documents related to these amendments are listed in the Safety Evaluation enclosed with the amendments.

Facility Operating License Nos. NPF-90 and NPF-96: Amendments revised the Facility Operating Licenses and Technical Specifications.

Date of initial notice in Federal Register: November 20, 2018 (83 FR 58619). The supplemental letters dated November 9, 2018, and March 21, 2019, provided additional information that clarified the application, did not expand the scope of the application as originally noticed, and did not change the NRC staff's original proposed no significant hazards consideration determination as published in the Federal Register.

The Commission's related evaluation of the amendments is contained in a Safety Evaluation dated June 7, 2019.

No significant hazards consideration comments received: No.

United States Maritime Administration (MARAD), Docket No. 50-238, Nuclear Ship SAVANNAH (NSS), Baltimore, Maryland

Date of application for amendment: June 19, 2018.

Brief description of amendment: The amendment revised the Technical Specifications to establish and incorporate reporting requirements for a Process Control Program, an Offsite Dose Calculation Manual, a Radioactive Effluent Controls Program, and a Radiological Environmental Monitoring Program.

Date of issuance: June 18, 2019.

Effective date: As of the date of issuance and shall be implemented within 60 days.

Amendment No.: 17. A publicly-available version is in ADAMS under Accession No. ML19085A482. The Commission's related evaluation of the amendment is contained in a Safety Evaluation dated November 26, 2018.

Facility Operating License No. NS-1: This amendment revises the Technical Specifications of the License.

Date of initial notice in Federal Register: August 14, 2018 (83 FR 40352).

No significant hazards consideration comments received: No.

Virginia Electric and Power Company, Docket Nos. 50-280 and 50-281, Surry Power Station, Unit Nos. 1 and 2, Surry County, Virginia.

Date of amendment request: March 2, 2018, as supplemented by letter dated October 25, 2018.

Brief description of amendments: The amendments revised the Surry Power Station (SPS), Unit Nos. 1 and 2 Technical Specifications consistent with Revision 0 to the Technical Specification Task Force (TSTF) Traveler, TSTF-490, “Deletion of E Bar Definition and Revision to RCS [reactor coolant system] Specific Activity Tech Spec.” The amendments adopted TSTF-490, Revision 0, and made associated changes, which included replacing the current limits on primary coolant gross specific activity with limits on primary coolant noble gas specific activity. The amendments also updated the Alternative Source Term (AST) analyses bases for new codes, revised atmospheric dispersion factors, new fuel handling accident fuel rod gap fractions and control room isolation operator action time, and elimination of the locked rotor accident dose consequences.

Date of issuance: June 12, 2019.

Effective date: As of the date of issuance and shall be implemented within 60 days of issuance.

Amendment Nos.: 295 and 295. A publicly-available version is in ADAMS under Accession No. ML19028A384; documents related to these amendments are listed in the Safety Evaluation enclosed with the amendments.

Renewed Facility Operating License Nos. DPR-32 and DPR-37: Amendments revised the Renewed Facility Operating Licenses and Technical Specifications.

Date of initial notice in Federal Register: June 19, 2018, 83 FR 28465. The supplemental letter dated October 25, 2018 provided additional information that clarified the application, did not expand the scope of the application as originally noticed, and did not change the staff's original proposed no significant hazards consideration determination as published in the Federal Register.

The Commission's related evaluation of the amendment is contained in a Safety Evaluation dated June 12, 2019.

No significant hazards consideration comments received: No.

Dated at Rockville, Maryland, this 26th day of June 2019.
For the Nuclear Regulatory Commission.
Blake D. Welling,
Acting Deputy Director, Division of Operating Reactor Licensing, Office of Nuclear Reactor Regulation.

[FR Doc. 2019-14001 Filed 7-1-19; 8:45 am]

BILLING CODE 7590-01-P